DEPARTMENT OF DEFENSE

Office of the Secretary

[Docket ID: DoD-2024-OS-0065]

U.S. Court of Appeals for the Armed Forces Proposed Rules Changes

AGENCY: Office of the Secretary, Department of Defense (DoD).

ACTION: Notice of proposed redraft of the Rules of Practice and Procedure of the United States Court of Appeals for the Armed Forces.

SUMMARY: This notice announces proposed redrafting of the Rules of Practice and Procedure, United States Court of Appeals for the Armed Forces. Although these rules of practice and procedure fall within the Administrative Procedure Act's exemptions for notice and comment, the Department, as a matter of policy, has decided to make these changes available for public review and comment before they are implemented.

DATES: Comments on the proposed changes must be received by July 8, 2024.

ADDRESSES: You may submit comments, identified by docket number and title by any of the following methods:

• Federal eRulemaking Portal: http://www.regulations.gov.

• Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name and docket number for this Federal Register document. The general policy for comments and other submissions from members of the public is to make these submissions available for public viewing on the internet at http://www.regulations.gov as they are received without change, including personal identifiers or contact information.

FOR FURTHER INFORMATION CONTACT: Malcolm H. Squires, Jr., Clerk of the Court, telephone (202) 761-1448.

SUPPLEMENTARY INFORMATION: This notice announces a new draft of the Rules of Practice and Procedure of the United States Court of Appeals for the Armed Forces. The Court, with the help of its Rules Committee, has sought to rework nearly every existing rule to bring them in line with the changes to the Uniform Code of Military Justice and various technological advances.

Due to the length of the proposed changes, they are being made available on the internet rather than being printed in the Federal Register. The following items are available at http://www.regulations.gov, Docket ID: DoD-2024-OS-0065. After searching for DoD-2024-OS-0065, please see the Supporting & Related Material tab.

Dated: May 31, 2024.
Aaron T. Siegel,
Alternate OSD Federal Register Liaison Officer, Department of Defense.

[FR Doc. 2024-12388 Filed 6-6-24; 8:45 am]

BILLING CODE 6001-FR-P